Proclamation 7841 of November 4, 2004

National Diabetes Month, 2004

By the President of the United States of America

A Proclamation

More than 18 million Americans are estimated to have diabetes. Diabetes is the leading cause of new blindness, end-stage kidney disease, and nontraumatic amputations. It can also double a person's risk of heart attack and stroke and can cause nervous system damage and premature death. During National Diabetes Month, we seek to raise awareness of the impact of diabetes on our citizens, and we recognize those committed to improving the treatment and prevention of this chronic disease.

Approximately one million Americans have been diagnosed with type 1 diabetes, once known as juvenile diabetes. It develops from autoimmune, genetic, and environmental influences, most often striking children, adolescents, and young adults. By developing the disease so young, people with type 1 diabetes have a greater risk for serious complications. Type 2 diabetes affects approximately 17 million Americans, and is most common in people over 40 who are overweight, inactive, or have a family history of this disease. While people of all backgrounds are affected, type 2 diabetes disproportionately strikes African Americans, Hispanic Americans, Asian Americans, and Native Americans. The number of Americans with type 2 diabetes has grown dramatically, and many more Americans are at high risk for developing it.

My Administration is committed to funding diabetes research. This year, the National Institutes of Health dedicated $993 million for diabetes research, and I have requested more that $1 billion for 2005, a 49 percent increase since 2001.

We are also working to raise awareness of the risk factors associated with diabetes. According to clinical research, people at risk for type 2 diabetes can reduce their risk by approximately 58 percent if they lose a modest amount of weight and stay physically active. Those who already live with diabetes can greatly reduce their risk for heart disease and stroke by controlling their blood sugar, blood pressure, and cholesterol.

NOW, THEREFORE, I, GEORGE W. BUSH, President of the United States of America, by virtue of the authority vested in me by the Constitution and laws of the United States, do hereby proclaim November 2004 as National Diabetes Month. I call upon all Americans to observe this month with appropriate programs and activities.

IN WITNESS WHEREOF, I have hereunto set my hand this fourth day of November, in the year of our Lord two thousand four, and of the Independence of the United States of America the two hundred and twenty-ninth.

B

[FR Doc. 04-25166

Filed 11-8-04; 9:39 am]

Billing code 3195-01-P